DEPARTMENT OF ENERGY

Federal Energy Regulatory Commission

Combined Notice of Filings

Take notice that the Commission has received the following Natural Gas Pipeline Rate and Refund Report filings:

Filings Instituting Proceedings

Docket Numbers: PR24-38-000.

Applicants: Agua Blanca, LLC.

Description: Agua Blanca Rate Certification to be effective N/A.

Filed Date: 1/12/24.

Accession Number: 20240112-5119.

Comment Date: 5 p.m. ET 2/2/24.

Docket Numbers: PR24-39-000.

Applicants: Worsham-Steed Gas Storage, LLC.

Description: § 284.123 Rate Filing: Section 284.504 (b) Filg_Hartree Acquisition to be effective N/A.

Filed Date: 1/12/24.

Accession Number: 20240112-5124.

Comment Date: 5 p.m. ET 2/2/24.

Docket Numbers: PR24-40-000.

Applicants: Hill-Lake Gas Storage, LLC.

Description: § 284.123 Rate Filing: Section 284.504 (b) Filg_Hartree Acquisition to be effective N/A.

Filed Date: 1/12/24.

Accession Number: 20240112-5126.

Comment Date: 5 p.m. ET 2/2/24.

Docket Numbers: PR24-41-000.

Applicants: Arcadia Gas Storage, LLC.

Description: Arcadia Gas Storage, LLC submits Informational Filing Concerning Market-Based Rate Authority.

Filed Date: 1/12/24.

Accession Number: 20240112-5175.

Comment Date: 5 p.m. ET 2/2/24.

Docket Numbers: RP24-313-000.

Applicants: Equitrans, L.P.

Description: § 4(d) Rate Filing: Negotiated Rate Agreements—1/13/2024 to be effective 1/13/2024.

Filed Date: 1/12/24.

Accession Number: 20240112-5073.

Comment Date: 5 p.m. ET 1/24/24.

Docket Numbers: RP24-314-000.

Applicants: Algonquin Gas Transmission, LLC.

Description: § 4(d) Rate Filing: Negotiated Rates—Yankee Gas to Emera Energy eff 1-13-24 to be effective 1/13/2024.

Filed Date: 1/12/24.

Accession Number: 20240112-5076.

Comment Date: 5 p.m. ET 1/24/24.

Docket Numbers: RP24-315-000.

Applicants: Equitrans, L.P.

Description: § 4(d) Rate Filing: Negotiated Rate Agreements—01/15/2024 to be effective 1/15/2024.

Filed Date: 1/12/24.

Accession Number: 20240112-5112.

Comment Date: 5 p.m. ET 1/24/24.

Docket Numbers: RP24-316-000.

Applicants: Transcontinental Gas Pipe Line Company, LLC.

Description: Compliance filing: Washington Storage_Section 284.504(b) Filg_Hartree Acquisition to be effective N/A.

Filed Date: 1/12/24.

Accession Number: 20240112-5118.

Comment Date: 5 p.m. ET 1/24/24.

Docket Numbers: RP24-317-000.

Applicants: Rockies Express Pipeline LLC.

Description: § 4(d) Rate Filing: REX 2024-01-12 Negotiated Rate Agreement to be effective 1/13/2024.

Filed Date: 1/12/24.

Accession Number: 20240112-5146.

Comment Date: 5 p.m. ET 1/24/24.

Docket Numbers: RP24-318-000.

Applicants: Monroe Gas Storage Company, LLC.

Description: Monroe Gas Storage Company, LLC submits Informational Filing Concerning Market-Based Rate Authority.

Filed Date: 1/12/24.

Accession Number: 20240112-5150.

Comment Date: 5 p.m. ET 1/24/24.

Docket Numbers: RP24-319-000.

Applicants: Cove Point LNG, LP.

Description: § 4(d) Rate Filing: Cove Point—January 12, 2024 Negotiated Rate Agreement to be effective 1/13/2024.

Filed Date: 1/12/24.

Accession Number: 20240112-5147.

Comment Date: 5 p.m. ET 1/24/24.

Docket Numbers: RP24-320-000.

Applicants: Trailblazer Pipeline Company LLC.

Description: § 4(d) Rate Filing: TPC 2024-01-12 Negotiated Rate Agreement to be effective 1/13/2024.

Filed Date: 1/12/24.

Accession Number: 20240112-5149.

Comment Date: 5 p.m. ET 1/24/24.

Docket Numbers: RP24-321-000.

Applicants: Perryville Gas Storage LLC.

Description: Perryville Gas Storage LLC submits Informational Filing Concerning Market-Based Rate Authority.

Filed Date: 1/12/24.

Accession Number: 20240112-5158.

Comment Date: 5 p.m. ET 1/24/24.

Docket Numbers: RP24-322-000.

Applicants: Pine Prairie Energy Center, LLC.

Description: Pine Prairie Energy Center, LLC submits Informational Filing Concerning Market-Based Rate Authority.

Filed Date: 1/12/24.

Accession Number: 20240112-5159.

Comment Date: 5 p.m. ET 1/24/24.

Docket Numbers: RP24-323-000.

Applicants: SG Resources Mississippi, L.L.C.

Description: SG Resources Mississippi, L.L.C. submits Informational Filing Concerning Market-Based Rate Authority.

Filed Date: 1/12/24.

Accession Number: 20240112-5162.

Comment Date: 5 p.m. ET 1/24/24.

Docket Numbers: RP24-324-000.

Applicants: Cadeville Gas Storage LLC.

Description: Cadeville Gas Storage LLC submits Informational Filing Concerning Market-Based Rate Authority.

Filed Date: 1/12/24.

Accession Number: 20240112-5163.

Comment Date: 5 p.m. ET 1/24/24.

Docket Numbers: RP24-325-000.

Applicants: Equitrans, L.P.

Description: Compliance filing: Penalty Revenue Crediting Report—2023 to be effective N/A.

Filed Date: 1/16/24.

Accession Number: 20240116-5117.

Comment Date: 5 p.m. ET 1/29/24.

Docket Numbers: RP24-326-000.

Applicants: Algonquin Gas Transmission, LLC.

Description: § 4(d) Rate Filing: Negotiated Rates—Yankee Gas to Emera Energy eff 1-17-24 to be effective 1/17/2024.

Filed Date: 1/16/24.

Accession Number: 20240116-5154.

Comment Date: 5 p.m. ET 1/29/24.

Docket Numbers: RP24-327-000.

Applicants: Alliance Pipeline L.P.

Description: § 4(d) Rate Filing: Award of Capacity Timeline Filing to be effective 2/16/2024.

Filed Date: 1/16/24.

Accession Number: 20240116-5169.

Comment Date: 5 p.m. ET 1/29/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 16, 2024.
Debbie-Anne A. Reese,
Acting Secretary.

[FR Doc. 2024-01145 Filed 1-22-24; 8:45 am]

BILLING CODE 6717-01-P